FEDERAL ELECTION COMMISSION

Sunshine Act Notices

Date and Time: Tuesday, March 18, 2008 at 10 a.m.

Place: 999 E Street, NW., Washington, DC.

Status: This meeting will be closed to the public.

Items To Be Discussed

Compliance matters pursuant to 2 U.S.C. 437g.

Audits conducted pursuant to 2 U.S.C. 437g, 438(b), and Title 26, U.S.C.

Matters concerning participation in civil actions or proceedings or arbitration.

Internal personnel rules and procedures or matters affecting a particular employee.

Previously scheduled meetings on Tuesday, March 4, 2008, and Thursday, March 8, 2008 were cancelled.

Person to Contact for Information: Mr. Robert Biersack, Press Officer, Telephone: (202) 694-1220.

Mary W. Dove,
Secretary of the Commission.

[FR Doc. 08-1029 Filed 3-11-08; 3:14 pm]

BILLING CODE 6715-01-M